DEPARTMENT OF THE INTERIOR

Fish and Wildlife Service

[FWS-R2-ES-2015-N194; FXES11130200000-167-FF02ENEH00]

Draft Screening Form and Draft Low-Effect Habitat Conservation Plan for the San Rafael Ranch; Santa Cruz County, AZ

AGENCY: Fish and Wildlife Service, Interior.

ACTION: Notice of availability; request for comments.

SUMMARY: We, the U.S. Fish and Wildlife Service (Service), make available the draft National Environmental Policy Act (NEPA) screening form and draft San Rafael Ranch low-effect habitat conservation plan (dHCP). The San Rafael Cattle Company (applicant) has applied to the Service for an incidental take permit (ITP, TE12133A-0) under the Endangered Species Act of 1973, as amended (Act). If approved, the ITP would be in force for a period of 30 years, and would authorize incidental take of three species currently listed under the Act, and one species that may become listed under the Act. The proposed incidental take would occur as a result of specified actions conducted under the authority of the San Rafael Cattle Company.

This is the second notice regarding the dHCP. An earlier notice of Availability was published on July 22, 2010 (75 FR 35504). After that notice was published, processing of the permit application was suspended by mutual agreement of the San Rafael Cattle Company and the Service.

DATES: To ensure consideration, written comments must be received or postmarked on or before December 14, 2015. Any comments that we receive after the closing date may not be considered.

ADDRESSES: Availability of Documents: The draft NEPA screening form and draft San Rafael Ranch low-effect habitat conservation plan (dHCP) are available by the following methods:

• Internet: Documents are available on the Internet at the Service's Web site, at http://www.fws.gov/southwest/es/arizona/.

• U.S. Mail: A limited number of CD-ROM and printed copies of both documents are available, by request, from Mr. Steve Spangle, Field Supervisor, Arizona Ecological Services Field Office, 2321 West Royal Palm Road, Suite 103, Phoenix, AZ 85021-4951; telephone: 602-242-0210; fax: 602-242-2513. Please note that your request is in reference to the San Rafael Ranch dHCP (TE-12133A-0).

• In-Person: Copies of both documents are also available for public inspection and review at the following locations, by written request and appointment only, 8 a.m. to 4:30 p.m.:

• U.S. Fish and Wildlife Service, 500 Gold Avenue SW., Room 6034, Albuquerque, NM 87102.

• U.S. Fish and Wildlife Service, Arizona Ecological Services Field Office, 2321 West Royal Palm Road, Suite 103, Phoenix, AZ 85021-4951; telephone: 602-242-0210; fax: 602-242-2513.

The ITP application is available by mail from the Regional Director, U.S. Fish and Wildlife Service, P.O. Box 1306, Room 6034, Albuquerque, NM 87103, Attn: Environmental Review Division.

Comment submission: We request that you send comments only by one of the methods described below. Comments submitted by any other means may not be considered. Please note that your request is in reference to the San Rafael Ranch dHCP (TE-12133A-0).

• Electronically: Send comments to fw2_hcp_permits@fws.gov.

• By hard copy: Submit comments by U.S. mail or hand-delivery to: U.S. Fish and Wildlife Service, Arizona Ecological Services Field Office, 2321 West Royal Palm Road, Suite 103, Phoenix, AZ 85021-4951; telephone: 602-242-0210.

FOR FURTHER INFORMATION CONTACT: Doug Duncan, Arizona Ecological Services Field Office—Tucson Sub-Office, 201 N. Bonita Avenue, Suite 141, Tucson, AZ 85745; telephone (520/670-6150; extension 236); or by email (Doug_Duncan@fws.gov).

SUPPLEMENTARY INFORMATION: We announce that:

(1) We have gathered the information necessary to determine the impacts to the human environment under NEPA related to the potential issuance of an ITP to the applicant; and

(2) The applicant has developed a dHCP as part of the application for an ITP, which describes the measures the applicant has agreed to take to minimize and mitigate the effects of incidental take of covered species to the maximum extent practicable, pursuant to section 10(a)(1)(B) of the Act.

Take of listed plant species is not defined in the Act, although the Act does identify several prohibitions. However, because covered species in the dHCP include both plants and animals, in the following discussion we use the term “incidental take” when discussing impacts to covered plants, as well as actual incidental take of covered animals. Plant species may be included on an ITP in recognition of the conservation benefits provided to them under an HCP.

If approved, the ITP would authorize incidental take of five listed species, including Sonoran tiger salamander (Ambystoma mavortium [=tigrinum] stebbinsi), Gila chub (Gila intermedia), northern Mexican gartersnake (Thamnophis eques megalops), Canelo Hills ladies'-tresses (Spiranthes delitescens), and Huachuca water umbel (Lilaeopsis schaffneriana ssp. recurva), as well as a species that may become listed under the Act in the future, and Huachuca springsnail (Pyrgulopsis thompsoni).

Also occurring on the Ranch is the endangered Gila topminnow (Poeciliopsis o. occidentalis) and potentially, the threatened Chiricahua leopard frog (Lithobates chiricahuensis). Both species are covered under safe harbor agreements held by the Arizona Game and Fish Department.

The proposed incidental take would occur as a result of ranch management activities on 18,440 acres of the San Rafael Ranch and 3,560 acres of grazing preference on the Arizona State Parks, San Rafael State Natural Area (consistent with lease terms) in Santa Cruz County, Arizona. The applicant has completed a dHCP as part of the application package, as required by the Act.

A categorical exclusion for an HCP is based on the following three criteria: (1) Implementation of the proposed plan would result in minor or negligible effects on federally-listed, proposed, and candidate species and their habitats; (2) implementation of the proposed HCP would result in minor or negligible effects on other environmental values or resources; and (3) impacts of the HCP, considered together with the impacts of other past, present, and reasonably foreseeable similarly situated projects, would not result, over time, in cumulative effects to environmental values or resources that would be considered significant. Based upon the preliminary determination made in our draft NEPA screening document, we believe this action qualifies as a categorical exclusion. We will consider public comments when making the final determination on whether to prepare an additional NEPA document on the proposed action.

Background

Since purchasing the San Rafael Ranch in 2000, the applicant has been implementing grazing practices that have improved range and habitat conditions on private lands within the San Rafael Valley of Santa Cruz County, Arizona. These improved habitat conditions provide opportunities for conservation actions that may enhance the status and distribution of covered species on the San Rafael Ranch. The applicant would like to continue ranch management activities while working with agencies to conduct conservation actions on the San Rafael Ranch, such as introduction of covered species or other species not covered, and removal of aquatic invasive species. The covered ranch management activities would consist of watering cattle in stock tanks and cattle grazing all habitats, including herding cattle within and between pastures; maintenance of stock ponds, wells, waterlines, fences, roads, and utility lines supporting these facilities; and brush and invasive plant management to reduce shrub invasion of upland grasslands. All of these activities have short-term impacts on species and their habitats, and incidental take of some covered species may occur. However, a long-term benefit is anticipated for the watershed and habitats of the covered species. In addition, the applicant proposes actions to minimize the impacts of the activities and assist in recovery of covered species. These actions are also proposed to be covered by the associated section 10(a)(1)(B) permit.

The biological goal of the San Rafael Ranch HCP is to provide long-term protection for multiple species of concern and key natural communities through maintenance or improvement of the habitat conditions and ecosystem functions necessary for their survival, and to ensure that any incidental take of listed species will not appreciably reduce the likelihood of the survival and recovery of those species in the wild.

Public Availability of Comments

Written comments we receive become part of the public record associated with this action. Before including your address, phone number, email address, or other personal identifying information in your comment, you should be aware that the entire comment—including your personal identifying information—may be made publicly available at any time. While you can ask us in your comment to withhold your personal identifying information from public review, we cannot guarantee that we will be able to do so.

Authority

We provide this notice under section 10(c) of the Act (16 U.S.C. 1531 et seq.) and its implementing regulations (50 CFR 17.22) and NEPA (42 U.S.C. 4371 et seq.) and its implementing regulations (40 CFR 1506.6).

Dated: November 5, 2015.
Joy E. Nicholopoulos,
Acting Regional Director, Southwest Region, U.S. Fish and Wildlife Service.

[FR Doc. 2015-28794 Filed 11-10-15; 8:45 am]

BILLING CODE 4333-15-P